DEPARTMENT OF THE TREASURY

Submission for OMB Review; Comment Request

March 15, 2005.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before April 20, 2005 to be assured of consideration.

Internal Revenue Service (IRS)

OMB Number: 1545-1757.

Regulation Project Number: REG-105344-01 (Final).

Type of Review: Extension.

Title: REG-105344-01 (Final) Disclosure of Returns and Return Information by Other Agencies.

Description: In general, under the regulations, the IRS is permitted to authorize agencies with access to returns and return information under section 6103 of the Internal Revenue Code to re-disclose returns and return information based on a written request and with the Commissioner's approval, to any authorized recipient set forth in Code section 6103, subject to the same conditions and restrictions, and for the same purposes, as if the recipient had received the information from the IRS directly.

Respondents: Federal government, State, local or tribal government.

Estimated Number of Respondents: 11.

Estimated Burden Hours Respondent: 1 Hour.

Frequency of response: Other once.

Estimated Total Reporting Burden: 11 Hours.

OMB Number: 1545-1760.

Form Number: IRS Forms 1099-Q.

Type of Review: Revision.

Title: Payments From Qualified Education Programs (Under Sections 529 and 530).

Description: Form 1099-Q is used to report distributions from private and state qualified tuition programs as required under Internal Revenue Code sections 529 and 530.

Respondents: Business or other for-profit.

Estimated Number of Respondents: 150.

Estimated Burden Hours Respondent: 230 Hours.

Frequency of response: Annually.

Estimated Total Reporting Burden: 34,500 Hours.

Clearance Officer: Glenn P. Kirkland, (202) 622-3428, Internal Revenue Service, Room 6516, 1111 Constitution Avenue, NW., Washington, DC 20224.

OMB Reviewer: Joseph F. Lackey, Jr., (202) 395-7316, Office of Management and Budget, Room 10235, New Executive Office Building, Washington, DC 20503.

Christopher Davis,
Treasury PRA Assistant.

[FR Doc. 05-5480 Filed 3-18-05; 8:45 am]

BILLING CODE 4830-01-P